NATIONAL ARCHIVES AND RECORDS ADMINISTRATION

Advisory Committee on the Electronic Records Archives (ACERA)

AGENCY: National Archives and Records Administration.

ACTION: Notice of meeting change.

SUMMARY: In accordance with the Federal Advisory Committee Act, as amended (5 U.S.C. Appendix 2), the National Archives and Records Administration (NARA) announces an agenda change for the Advisory Committee on the Electronic Records Archives (ACERA). The meeting has been consolidated into one day. This meeting will be open to the public. However, due to space limitations and access procedures, the name and telephone number of individuals planning to attend must be submitted to the Electronic Records Archives Program at era.program@nara.gov. This meeting will be recorded for transcription purposes.

DATES: This meeting will be held on April 6, 2011, from 8:30 a.m. to 4:30 p.m.

ADDRESSES: 700 Pennsylvania Avenue, NW., Washington, DC 20408-0001.

FOR FURTHER INFORMATION CONTACT: Charles Piercy, Acting Assistant Archivist for the Office of Information Services, National Archives and Records Administration, 8601 Adelphi Road, College Park, Maryland 20740, (301) 837-1583.

SUPPLEMENTARY INFORMATION:

Agenda

(1) Opening Remarks

(2) ERA Status Updates

(3) Subcommittee Breakouts

(4) Adjournment

Dated: March 31, 2011.
Mary Ann Hadyka,
Committee Management Officer.

[FR Doc. 2011-8215 Filed 4-5-11; 8:45 am]

BILLING CODE 7515-01-P